DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period March 30, 2006 Through April 18, 2006
Firm | Address | Date petition accepted | Product
Berliss Bearing Co | 644 Route 10, Livingston, NJ 07039 | 3/30/06 | Roller and ball bearings.
Inland Tool & Manufacturing Co., Inc | 630 South 5th Street, Kansas City, KS 66105 | 4/3/06 | Stamped parts and tool room projects.
Wood Classics, Inc | 47 Stevens Lane, Gardiner, NY 12525 | 4/3/06 | Teakwood outdoor garden and patio furniture.
Ray Distributing Co | 1085 Northside Road, Victoria, TX 77904 | 4/4/06 | Fishing supplies.
Murnch-Kreuzer Candle Co | 617 E. Hiawatha Boulevard, Syracuse, NY 03208 | 4/5/06 | Paraffin wax candles.
M.S. Willett, Inc | 220 Cockeysville Road, Cockeysville, MD 21030 | 4/5/06 | Tool and die and stamping equipment.
Schubert Environmental Equipment, Inc | 2000 Bloomingdale Road, #115, Glendale Heights, IL 60139 | 4/5/06 | Industrial air cleaning, dust control and ventilation equipment.
J.D. Phillips Corp | 181 North Industrial Highway, Alpena, MI 49707 | 4/6/06 | Metalworking machinery for the removal of metal.
Funblock, Inc | 6515 Railroad, Raytown, MO 64133 | 4/10/06 | Children's furniture.
Bless Precision Tool, Inc | 80 Pacific Drive, Quakertown, PA 18951 | 4/10/06 | Tooling and machine components.
Anderson Copper and Brass Co | 4325 Frontage Road, Oak Forest, IL 60452 | 4/11/06 | Brass fittings and steel adapters.
Columbia Architectural Products, Inc | 10722 Tucker Street, Beltsville, MD 20705 | 4/11/06 | Architectural wall panels.
Security Detection Systems, Inc. dba Ranger Security Detectors | 11900 Montana Avenue, El Paso, TX 79936 | 4/12/06 | Metal detectors.
Crabs, LLC | 157 Twin Acres Drive, Lockport, LA 70374 | 4/12/06 | Seafood.
Elenel Industries, Inc. & Subsidiaries dba Photofabrication Engineering, Inc | 500 Fortune Boulevard, Milford, MA 01757 | 4/18/06 | Decorative products and precision parts.
Down Range Manufacturing, LLC | 4170 North Gun Powder Circle, Hastings, NE 68901 | 4/18/06 | Shotgun shell cartridges and accessories.
Ceramo Company, Inc | 681 Kasten Drive, Jackson, MO 63755 | 4/18/06 | Pottery products.

Any party having a substantial interest in these proceedings may request a public hearing on the matter. A written request for a hearing must be submitted to the Office of Chief Counsel, Room 7005, Economic Development Administration, U.S. Department of Commerce, Washington, DC 20230, no later than ten (10) calendar days following publication of this notice. Please follow the procedures set forth in Section 315.9 of EDA's interim final rule (70 FR 47002) for procedures for requesting a public hearing. The Catalog of Federal Domestic Assistance official program number and title of the program under which these petitions are submitted is 11.313, Trade Adjustment Assistance.

Barry Bird,
Chief Counsel.

[FR Doc. E6-6058 Filed 4-21-06; 8:45 am]

BILLING CODE 3510-24-P